FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number : 3981NF.

Name : All-Cargo Express Inc.

Address : Lakeview Professional Village, 12558 West Atlantic Blvd., Coral Springs, FL 33071.

Date Revoked : September 14, 2003.

Reason : Failed to maintain valid bonds.

License Number : 13243N.

Name : Clark Overseas Shipping, Inc.

Address : 121 New York Avenue, P.O. Box 438, Trenton, NJ 08603.

Date Revoked : September 4, 2003.

Reason : Surrendered license voluntarily.

License Number : 17466N.

Name : Compass Shipping, Inc.

Address : 525 Empire Blvd., Brooklyn, NY 11225.

Date Revoked : September 5, 2003.

Reason : Failed to maintain a valid bond.

License Number : 2274F.

Name : David K. Lindemuth Co., Inc.

Address : 154 South Spruce Avenue, So. San Francisco, CA 94080.

Date Revoked : August 27, 2003.

Reason : Failed to maintain a valid bond.

License Number: 3183F.

Name : DRW Transportation Services, Inc.

Address : P.O. Box 15993, North Little Rock, AR 72231.

Date Revoked : August 24, 2003.

Reason : Failed to maintain a valid bond.

License Number : 17507F.

Name : ECO Freight International Corporation.

Address : 5422 W. Rosecrans Avenue, Hawthorne, CA 90250.

Date Revoked : August 21, 2003.

Reason : Surrendered license voluntarily.

License Number : 8410N.

Name : Eugenia Shilling Shaw dba Nantrans.

Address : 978 Shoreline Drive, San Mateo, CA 94404.

Date Revoked : August 30, 2003.

Reason : Failed to maintain a valid bond.

License Number : 16199N.

Name : Global Container Line, Inc. dba Global Ocean Air Solutions.

Address : 2013 NW. 79th Avenue, Miami, FL 33122.

Date Revoked : August, 24, 2003.

Reason : Failed to maintain a valid bond.

License Number : 17945N.

Name : Jury Trans, Inc.

Address : 8244 NW. 14th Street, Miami, FL 33126.

Date Revoked : August 20, 2003.

Reason : Failed to maintain a valid bond.

License Number : 16763N.

Name : MTL Worldwide Agency, Inc.

Address : 228 51st Street, 2nd Floor, Brooklyn, NY 11220.

Date Revoked : August 30, 2003.

Reason : Failed to maintain a valid bond.

License Number : 12539N.

Name : Miller Intermodal Logistics Services, Inc.

Address : 5500 Highway 80 West, P.O. Box 1123, Jackson, MS 32915-1123.

Date Revoked : August 14, 2003.

Reason : Surrendered license voluntarily.

License Number : 16035N.

Name : Piscataqua Global Logistics, L.L.C.

Address : 583 Old Portsmouth Avenue, Greenland, NH 03840.

Date Revoked : July 19, 2003.

Reason : Failed to maintain a valid bond.

License Number : 12190N.

Name : Reliable Overseas Shipping & Trading, Inc.

Address : 239-241 Kingston Avenue, Brooklyn, NY 11213.

Date Revoked : September 5, 2003.

Reason : Failed to maintain a valid bond.

License Number : 18043F.

Name : PK Logistics Inc.

Address : 114 Maple Avenue, Red Bank, NJ 07701.

Date Revoked : September 9, 2003.

Reason : Surrendered license voluntarily.

License Number : 17251N.

Name : Shanghai Aaron Shipping & Enterprises Co., Ltd.

Address : 300 Davey Glen Road, #3429, Belmont, CA 94002.

Date Revoked : November 9, 2002.

Reason : Failed to maintain a valid bond.

License Number : 15847F.

Name : Straightline Logistics, Inc.

Address : Cargo Bldg., 80, Suite 2A, JFK Int'l.Airport, Jamaica, NY 11430.

Date Revoked : August 29, 2003.

Reason : Failed to maintain a valid bond.

License Number : 4216F.

Name : U.S. International Forwarding Agency, Inc.

Address : 10680 NW. 37th Terrace, Miami, FL 33178.

Date Revoked : August 17, 2003.

Reason : Failed to maintain a valid bond.

License Number : 14037N.

Name : Vladimir G. Manegdeg dba VGM Movers.

Address : 3836 Fenn Way, Santa Cruz, CA 95062.

Date Revoked : September 11, 2003.

Reason : Failed to maintain a valid bond.

License Number : 3972F.

Name : World Cargo Corporation.

Address : 12159 SW. 132nd Court, Suite 202, Miami, FL 33186.

Date Revoked : August 29, 2003.

Reason : Failed to maintain a valid bond.

License Number : 3116NF.

Name : Zust Bachmeier of Switzerland dba Vectura Ocean Lines.

Address : 3700 Commerce Drive, Suite 908, Baltimore, MD 21227.

Date Revoked : August 21, 2003.

Reason : Failed to maintain valid bonds.

Sandra L. Kusumoto,
Director, Bureau of Consumer Complaints and Licensing.

[FR Doc. 03-25528 Filed 10-7-03; 8:45 am]

BILLING CODE 6730-01-P